DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Paperwork Submissions under the Coastal Zone Management Act Federal Consistency Requirements.

OMB Control Number: 0648-0411.

Form Number(s): None.

Type of Request: Regular submission.

Number of Respondents: 2,334.

Average Hours per Response: Federal agency/license or permit and assistance: State and non-Federal applicant, each 8 hours; State and other applicant, each 2 hours; unlisted activity requests, 4 hours; public notices, 1 hour; remedial action requests, 4 hours; listing notices/coordination: State listing, 1 hour; interstate listing, 30 hours; mediation requests, 2 hours; Secretarial appeals, appellants and states, each 210 hours.

Burden Hours: 35,799.

Needs and Uses: A number of paperwork submissions are required by the Coastal Zone Management Act (CZMA), 16 U.S.C. 1456, and by NOAA to provide a reasonable, efficient and predictable means of complying with the CZMA requirements. These requirements are detailed in 15 CFR part 930. The information will be used by coastal States with federally-approved Coastal Zone Management Programs to determine if Federal agency activities, Federal license or permit activities, and Federal assistance activities that affect a State's coastal zone are consistent with the States' programs.

Affected Public: State, local and tribal government.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 17, 2009.
Gwellnar Banks,
Management Analyst, Office of the Chief Information Officer.

[FR Doc. E9-22735 Filed 9-21-09; 8:45 am]

BILLING CODE 3510-22-P